SECURITIES AND EXCHANGE COMMISSION

[Release No. IC-30971]

Notice of Applications for Deregistration Under Section 8(f) of the Investment Company Act of 1940

February 28, 2014.

The following is a notice of applications for deregistration under section 8(f) of the Investment Company Act of 1940 for the month of February 2014. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on March 25, 2014, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street NE., Washington, DC 20549-1090.

For Further Information Contact: Diane L. Titus at (202) 551-6810, SEC, Division of Investment Management, Chief Counsel's Office, 100 F Street NE., Washington, DC 20549-8010.

Perritt MicroCap Opportunities Fund Inc. [File No. 811-5308]

Summary: Applicant seeks an order declaring that it has ceased to be an investment company. Applicant transferred its assets to a series of Perritt Funds, Inc., and on February 28, 2013, made a distribution to its shareholders based on net asset value. Expenses of $15,000 incurred in connection with the reorganization were paid by Perritt Capital Management, Inc., investment adviser to the acquired and the acquiring funds.

Filing Date: The application was filed on February 13, 2014.

Applicant's Address: 300 South Wacker Dr., Suite 2880, Chicago, IL 60606.

AllianzGI International & Premium Strategy Fund [File No. 811-21724]

Summary: Applicant, a closed-end investment company, seeks an order declaring that it has ceased to be an investment company. On October 28, 2013, applicant made a liquidating distribution to its shareholders, based on net asset value. Expenses of $68,000 incurred in connection with the liquidation were paid by applicant.

Filing Date: The application was filed on January 24, 2014.

Applicant's Address: 1633 Broadway, New York, NY 10019.

UBS Master Series Inc. [File No. 811-4448]

Summary: Applicant seeks an order declaring that it has ceased to be an investment company. On June 20, 2013, applicant made a liquidating distribution to its shareholders, based on net asset value. Expenses of $40,430 incurred in connection with the liquidation were paid by UBS Global Asset Management (Americas) Inc., applicant's investment adviser.

Filing Date: The application was filed on January 23, 2014.

Applicant's Address: 1285 Avenue of the Americas, 12th Floor, New York, NY 10019-6028.

RiverSource Selected Series, Inc. [File No. 811-4132]

Summary: Applicant seeks an order declaring that it has ceased to be an investment company. Applicant transferred its assets to Columbia Energy and Natural Resource Fund, a series of Columbia Funds Series Trust I, and on May 31, 2011, made a distribution to its shareholders based on net asset value. Expenses of $90,927 incurred in connection with the reorganization were paid by applicant and Columbia Management Investment Advisers, LLC, applicant's investment adviser.

Filing Date: The application was filed on January 29, 2014.

Applicant's Address: 901 Marquette Ave. South, Suite 2810, Minneapolis, MN 55402-3268.

Thai Capital Fund Inc. [File No. 811-6062]

Summary: Applicant, a closed-end investment company, seeks an order declaring that it has ceased to be an investment company. On August 23, 2013 and September 30, 2013, applicant made liquidating distributions to its shareholders, based on net asset value. Applicant has 91 shareholders of record. Undistributed funds are being held by American Stock Transfer & Trust Company (“AST”), pending ongoing efforts to locate remaining shareholders. If AST is unable to locate these shareholders, the remaining funds will be held for the period of time specified by state law and will escheat to the state after that time. Applicant has retained $96,300 in cash to pay outstanding liabilities. Expenses of $69,410 incurred in connection with the liquidation were paid by applicant.

Filing Dates: The application was filed on November 4, 2013, and amended on February 14, 2014.

Applicant's Address: c/o Aberdeen Asset Management Inc., 1735 Market St., 32nd Floor, Philadelphia, PA 19103.

For the Commission, by the Division of Investment Management, pursuant to delegated authority.
Kevin M. O'Neill,
Deputy Secretary.

[FR Doc. 2014-04927 Filed 3-5-14; 8:45 am]

BILLING CODE 8011-01-P